DEPARTMENT OF JUSTICE

Antitrust Division

Notice Pursuant to the National Cooperative Research and Production Act of 1993—Global Universal Design Commission, Inc.

Notice is hereby given that, on October 20, 2008, pursuant to Section 6(a) of the National Cooperative Research and Production Act of 1993, 15 U.S.C. 4301 et seq. (“the Act”), Global Universal Design Commission, Inc. (“GUDC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Global Universal Design Commission, Inc., Syracuse, New York. The nature and scope of GUDC's standards development activities are: To develop and promote the understanding and use of universal design. Universal design seeks to increase the usability, safety and health of the built environment to support social inclusion of a diverse population in all aspects of society. Universal design is an approach to the design of products and environment which treats all people equally and does not call special attention to the needs of a particular class of people. GUDC seeks to develop universal design standards through a consensus process that will increase choices and accommodate a wide range of preferences and needs, to the greatest extent possible, without the need for adaptation, retrofitting, or specialized design.

Patricia A. Brink,
Deputy Director of Operations, Antitrust Division.

[FR Doc. E8-28193 Filed 11-28-08; 8:45 am]

BILLING CODE 4410-11-M